DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[12/9/2008 through 1/31/2009]
Firm | Address | Date accepted for filing | Products
The John P. Smith Co. Inc | 31 Circo Road, Brandford, CT 06471 | 12/19/2008 | Welded material handling baskets, racks, trays and Norwich Litter Receptacles.
TechniQuip Corp | 5653 Stoneridge Drive, Pleasanton, CA 94588 | 12/11/2008 | Fiber optic illumination devices and fluorescent ring lights.
Columbia Panel Manufacturing Company, Inc | 100 Giles Street, High Point, NC 28604 | 1/29/2009 | Cut-to-size hardwood panels.
Aero-Mach Labs, Inc | 7707 E. Funston Street, Wichita, KS 67207 | 1/6/2009 | Aircraft instrument panels.
Dickard Widder Industries, Inc | 5602 Maspeth Avenue, Maspeth, NY 11378 | 12/23/2008 | Printed fabric and paper sample swatches and cards used as selling tools and trade advertising materials.
JDI Tool and Manufacturing | 28W059 Commercial, Lake, IL 60010 | 12/23/2008 | Tooling for the stamping electronics, automotive, consumer retail, and electric product industries. Tooling and dies for the industry.
Frank Roth Company, Inc | 1795 Stratford Avenue, Stratford, CT 06615 | 1/21/2009 | Hydraulic/pneumatic suspension systems and telescoping systems, electro-mechanical assemblies, industrial components, precision machined components and castings.
Spectro Coating Corp | 101 Scott Drive, Leominster, MA 01453 | 1/23/2009 | Flocked rolled goods.
Hardwood Manufacturing Company | 1119 Douglas Avenue, North, RI 02904 | 1/29/2009 | Mainly metal products consisting of bookmarks, picture frames, ornaments, spoons, paperweights, key rings, luggage tags, money clips, golf accessories, business card cases, letter openers and shot glasses
Bridgeport Truck Manufacturing | P.O. Box 217, Bridgeport, TX 76426 | 1/21/2009 | Refuse collection vehicles.
The G&G Manufacturing Company, Inc | 4015 Red Bank Road, Cincinnati, OH 45227-3456 | 12/9/2008 | Precision machined metal and plastic parts.
Vin-Tex Sealers, Inc | 1447 W. Ardmore Avenue, Itasca, IL 60143 | 12/10/2008 | Medical therapeutic support surfaces, helmet liners, buoyancy devices, and agricultural harvest products.
Masterpiece Models, I.LC | 7907 NE St Johns Rd, Vancouver, WA 98665 | 1/28/2009 | Models such as exhibits, displays, and props for a wide range of customers.
International Specialty Tube, LLC | 6600 Mt. Elliott, Detroit, MI 48211 | 1/28/2009 | Welded stainless steel tubing.
McBain Instruments, LP | 2665 Park Center Drive, Simi Valley, CA 93065 | 12/30/2008 | Microscopy measuring systems to customer specifications. Production consists of engineering design, software programming, component assembly, testing and delivery.
AirFlo Cooling Technologies, LLC | 728 S. Wheeling Ave., Tulsa, OK 74104 | 12/10/2008 | Fans and blowers.
Engineered Plastic Products Corporation | 2542 Pratt Boulevard, Elk Grove, IL 60007 | 12/12/2008 | Custom plastic parts and manifolds and plastic turning, plastic milling, and plastic screw machining.
Systematix Controls, Inc | 670 Industry Drive, Box, Tukwila, WA 98188 | 1/8/2009 | Kappa analyzers and their parts, used in the recovery area of pulp and paper mills.
Solar Innovations, Inc | 234 E. Rosebud Road, Myerstown, PA 17067 | 1/9/2009 | Doors, windows, skylights, aluminum sunrooms, folding walls, and greenhouses.
Kingfisher Kookers | 201 N 13th Street, Kingfisher, OK 73750 | 1/7/2009 | Food smokers, barbeques, and gas grills.
Eglomise Designs, Inc | 4 Antietam Street, Devens, MA 01434 | 12/30/2008 | Mirrors, pictures, paperweights, desk boxes, photo frames, desk clocks and stationary.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: January 30, 2009.
William P. Kittredge,
Program Officer for TAA.

[FR Doc. E9-2445 Filed 2-4-09; 8:45 am]

BILLING CODE 3510-24-P